FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on continuing information collections, as required by the Paperwork Reduction Act of 1995 (44 U.S.C. chapter 35). Currently, the FDIC is soliciting comments concerning the following collection of information titled: Notification of Changes of Insured Status (3064-0124).

DATES: Comments must be submitted on or before December 22, 2008.

ADDRESSES: Interested parties are invited to submit written comments to the FDIC by any of the following methods. All comments should refer to the name of the collection:

Web site: http://www.FDIC.gov/regulations/laws/federal/notices.html.

E-mail: comments@fdic.gov. Include the name of the collection in the subject line of the message.

Mail: Gary A. Kuiper (202.898.3877), Counsel, Room F-1072, Federal Deposit Insurance Corporation, 550 17th Street, NW., Washington, DC 20429.

Hand Delivery: Comments may be hand-delivered to the guard station at the rear of the 17th Street Building (located on F Street), on business days between 7 a.m. and 5 p.m.

A copy of the comments may also be submitted to the OMB desk officer for the FDIC: Office of Information and Regulatory Affairs, Office of Management and Budget, New Executive Office Building, Washington, DC 20503.

FOR FURTHER INFORMATION CONTACT: Gary A. Kuiper at the address identified above.

SUPPLEMENTARY INFORMATION: Proposal to renew the following currently approved collection of information:

Title: Notification of Changes of Insured Status.

OMB Number: 3064-0124.

Frequency of Response: On occasion.

Affected Public: Insured depository institutions.

Number of certifications: 280 (Average time to prepare a certification is one quarter hour) for a total of 70 hours. Number of depositor notices: 5 (the average time to prepare a depositor notice is 1 hour) for a total of 5 hours.

Total Annual Burden: 75 hours.

General Description of Collection: The collection involves the certification that insured depository institutions provide the FDIC when they completely assume deposit liabilities from another insured depository institution, and a notification that insured depository institutions provide to the FDIC when they seek to voluntarily terminate their insured status.

Request for Comment

Comments are invited on: (a) Whether this collection of information is necessary for the proper performance of the FDIC's functions, including whether the information has practical utility; (b) the accuracy of the estimates of the burden of the information collection, including the validity of the methodologies and assumptions used; (c) ways to enhance the quality, utility, and clarity of the information to be collected; (d) ways to minimize the burden of the information collection on respondents, including through the use of automated collection techniques or other forms of information technology; and (e) estimates of capital or start up costs, and costs of operation, maintenance and purchase of services to provide the information.

At the end of the comment period, the comments and recommendations received will be analyzed to determine the extent to which the collection should be modified prior to submission to OMB for review and approval. Comments submitted in response to this notice also will be summarized or included in the FDIC's requests to OMB for renewal of this collection. All comments will become a matter of public record.

Dated at Washington, DC, this 15th day of October 2008.
Federal Deposit Insurance Corporation.
Robert E. Feldman,
Executive Secretary.

[FR Doc. E8-24951 Filed 10-20-08; 8:45 am]

BILLING CODE 6714-01-P